COMMITTEE FOR PURCHASE FROM PEOPLE WHO ARE BLIND OR SEVERELY DISABLED

Clarification of Notice of Procurement List Additions

On page 45008, FR Doc E7-15668, Additions to the Procurement List, in the issue of August 10, 2007, the Committee published Procurement List Additions.

This notice provides clarification of coverage for all of the NSNs under the following product headers: “File, Folder, Classification” and “Inkjet Printer Cartridge.”

Coverage

A-List for the total Government requirement as specified by the General Services Administration.

Kimberly M. Zeich,
Director, Program Operations.

[FR Doc. E7-16219 Filed 8-16-07; 8:45 am]

BILLING CODE 6353-01-P